DEPARTMENT OF AGRICULTURE

Animal and Plant Health Inspection Service

[Docket No. APHIS-2018-0081]

Notice of Request for Reinstatement of an Information Collection; Prohibited, Restricted, and Controlled Importation of Animal and Poultry Products and By-Products Into the United States

AGENCY: Animal and Plant Health Inspection Service, USDA.

ACTION: Reinstatement of an information collection; comment request.

SUMMARY: In accordance with the Paperwork Reduction Act of 1995, this notice announces the Animal and Plant Health Inspection Service's intention to request the reinstatement of an information collection associated with the prohibited, restricted, and controlled importation of animal and poultry products and by-products into the United States.

DATES: We will consider all comments that we receive on or before February 25, 2019.

ADDRESSES: You may submit comments by either of the following methods:

• Federal eRulemaking Portal: Go to http://www.regulations.gov/#!docketDetail;D=APHIS-2018-0081.

• Postal Mail/Commercial Delivery: Send your comment to Docket No. APHIS-2018-0081, Regulatory Analysis and Development, PPD, APHIS, Station 3A-03.8, 4700 River Road Unit 118, Riverdale, MD 20737-1238.

Supporting documents and any comments we receive on this docket may be viewed at http://www.regulations.gov/#!docketDetail;D=APHIS-2018-0081 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on prohibited, restricted, and controlled importation of animal and poultry products and by-products into the United States, contact Dr. Magde S. Elshafie, Senior Staff Veterinarian, Strategy and Policy, VS, APHIS, 4700 River Road Unit 40, Riverdale, MD 20737; (301) 851-3332. For more detailed information on the information collection, contact Ms. Kimberly Hardy, APHIS' Information Collection Coordinator, at (301) 851-2483.

SUPPLEMENTARY INFORMATION: Title: Prohibited, Restricted, and Controlled Importation of Animal and Poultry Products and By-Products into the United States.

OMB Control Number: 0579-0015.

Type of Request: Reinstatement of an information collection.

Abstract: The Animal Health Protection Act (7 U.S.C. 8301 et seq.) is the primary Federal law governing the protection of animal health. The law gives the Secretary of Agriculture broad authority to detect, control, or eradicate pests or diseases of livestock or poultry. The Secretary may also prohibit or restrict import or export of any animal or related material if necessary to prevent the spread of any livestock or poultry pest or disease.

Disease prevention is the most effective method for maintaining a healthy animal population and for enhancing the Animal and Plant Health Inspection Service's (APHIS) ability to compete globally in animal and animal product and by-product trade. In connection with this mission, APHIS enforces regulations regarding the importation of controlled materials and the prevention of foreign animal disease incursions into the United States. These regulations can be found in 9 CFR parts 94, 95, and 122. APHIS engages in a number of information collection activities to prevent or control the spread of livestock diseases via the prohibited, restricted, and controlled importation of animal and poultry products and by-products into the United States, including, but not limited to, certificates, applications, agreements, appeals and cancellations of agreements, placards and statements, permissions to import, reports, notifications, government seals, and marking requirements.

In addition, to align with terminology used in the regulations, APHIS has revised the name of this information collection from “Restricted and Controlled Importation of Animal and Poultry Products and By-Products into the United States” to “Prohibited, Restricted, and Controlled Importation of Animal and Poultry Products and By-Products into the United States.”

We are asking the Office of Management and Budget (OMB) to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public burden for this collection of information is estimated to average 1.97 hours per response.

Respondents: Importers, exporters, processing operators, foreign federal governments, foreign veterinarians, port personnel, museums, educational institutions, transportation operators, and carrier personnel.

Estimated Annual Number of Respondents: 3,437.

Estimated Annual Number of Responses per Respondent: 63.

Estimated Annual Number of Responses: 216,399.

Estimated Total Annual Burden on Respondents: 427,877 hours. (Due to averaging, the total annual burden hours may not equal the product of the annual number of responses multiplied by the reporting burden per response.)

All responses to this notice will be summarized and included in the request for OMB approval. All comments will also become a matter of public record.

Done in Washington, DC, this 19th day of December 2018.
Kevin Shea,
Administrator, Animal and Plant Health Inspection Service.

[FR Doc. 2018-28046 Filed 12-26-18; 8:45 am]

BILLING CODE 3410-34-P